DEPARTMENT OF HEALTH AND HUMAN SERVICES

Centers for Medicare & Medicaid Services

[Document Identifier: CMS-R-249, CMS-2088, CMS-R-48 and CMS-382]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of currently approved collection.

Title of Information Collection: Hospice Cost Report and Supporting Regulations Contained in 42 CFR 413.20 and 413.24.

Use: The hospice cost report is the mechanism used to collect data from providers for rate evaluations for the Prospective Payment System (PPS). Once CMS obtains this information, we will update the PPS as mandated by Congress.

Form Number: CMS-R-249 (OMB#: 0938-0758).

Frequency: Annually.

Affected Public: Not-for-profit Institutions and Business or other for-profit.

Number of Respondents: 1,720.

Total Annual Responses: 1,720.

Total Annual Hours: 302,720.

2. Type of Information Collection Request: Extension of currently approved collection.

Title of Information Collection: Outpatient Rehabilitation Cost Report and Supporting Regulations Contained in 42 CFR 413.20 and 413.24.

Use: This form is used by community mental health centers to report their health care costs to determine the amount of reimbursement for services furnished to Medicare beneficiaries.

Form Number: CMS-2088-92 (OMB#: 0938-0037).

Frequency: Annually.

Affected Public: Business or other for-profit; Not-for profit Institutions, State, Local or Tribal governments.

Number of Respondents: 618.

Total Annual Responses: 618.

Total Annual Hours: 61,800.

3. Type of Information Collection Request: Extension of a currently approved collection.

Title of Information Collection: Hospital Conditions of Participation (COP) and Supporting Regulations in 42 CFR 482.12, 482.13, 482.21, 482.22, 482.27, 482.30, 482.41, 482.43, 482.45, 482.53, 482.56, 482.57, 482.60, 482.61, 482.62, 485.618 and 485.631.

Use: Hospitals seeking to participate in the Medicare and Medicaid programs must meet the Conditions of Participation (COP) for Hospitals, 42 CFR Part 482. The information collection requirements contained in this package are needed to implement the Medicare and Medicaid COP for hospitals and critical access hospitals (CAHs).

Form Number: CMS-R-48 (OMB# 0938-0328).

Frequency: Annually.

Affected Public: Business or other for-profit, Not-for-profit institutions, Federal Government, and State, Local or Tribal Gov.

Number of Respondents: 6,085.

Total Annual Responses: 6,085.

Total Annual Hours: 5,511,544.

4. Type of Information Collection Request: Revision of currently approved collection.

Title of Information Collection: ESRD Beneficiary Selection and Supporting Regulations Contained in 42 CFR 414.330.

Use: ESRD facilities have each new home dialysis patient select one of two methods to handle Medicare reimbursement. The intermediaries pay for the beneficiaries selecting Method I and the carriers pay for the beneficiaries selecting Method II. This system was developed to avoid duplicate billing by both intermediaries and carriers.

Form Number: CMS-382 (OMB#: 0938-0372).

Frequency: Other: One time only.

Affected Public: Individuals or Households, Business or other for-profit, and Not-for profit Institutions.

Number of Respondents: 7,400.

Total Annual Responses: 7,400.

Total Annual Hours: 617.

To obtain copies of the supporting statement and any related forms for the proposed paperwork collections referenced above, access CMS Web Site address at http://www.cms.hhs.gov/regulations/pra/, or e-mail your request, including your address, phone number, OMB number, and CMS document identifier, to Paperwork@cms.hhs.gov, or call the Reports Clearance Office on (410) 786-1326. Written comments and recommendations for the proposed information collections must be mailed within 30 days of this notice directly to the OMB desk officer: OMB Human Resources and Housing Branch, Attention: Christopher Martin, New Executive Office Building, Room 10235, Washington, DC 20503.

Dated: November 18, 2004.
John P. Burke, III,
Paperwork Reduction Act Team Leader, CMS Reports Clearance Officer, Office of Strategic Operations and Regulatory Affairs, Division of Regulations Development and Issuances.

[FR Doc. 04-26286 Filed 12-2-04; 8:45 am]

BILLING CODE 4120-03-P